SMALL BUSINESS ADMINISTRATION

13 CFR Parts 121, 124, 125, 126, 127, and 134

RIN 3245-AG94

Consolidation of Mentor Protégé Programs and Other Government Contracting Amendments; Extension of Comment Period

AGENCY: U.S. Small Business Administration.

ACTION: Proposed rule; extension of comment period.

SUMMARY: The U.S. Small Business Administration (SBA) is extending the comment period for the proposed rule published in the Federal Register on November 8, 2019. The comment period is scheduled to close on January 17, 2020. SBA is extending the comment period an additional 21 days in response to the significant level of interest generated by the proposed rule and requests from multiple stakeholders for an extension. Given the scope of the proposed rule and the nature of the issues raised by the comments received to date, SBA believes that affected businesses need more time to review the proposal and prepare their comments.

DATES: The comment period for the proposed rule published on November 8, 2019 (84 FR 60846) is extended to February 7, 2020.

ADDRESSES: You may submit comments, identified by RIN 3245-AG94 by any of the following methods:

• Federal eRulemaking Portal: http://www.regulations.gov. Follow the instructions for submitting comments.

• Mail, for paper, disk, or CD/ROM submissions: Brenda Fernandez, U.S. Small Business Administration, Office of Policy, Planning and Liaison, 409 Third Street SW, 8th Floor, Washington, DC 20416.

• Hand Delivery/Courier: Brenda Fernandez, U.S. Small Business Administration, Office of Policy, Planning and Liaison, 409 Third Street SW, 8th Floor, Washington, DC 20416.

SBA will post all comments on http://www.regulations.gov. If you wish to submit confidential business information (CBI) as defined in the User Notice at http://www.regulations.gov, please submit the information to Brenda Fernandez, U.S. Small Business Administration, Office of Policy, Planning and Liaison, 409 Third Street SW, 8th Floor, Washington, DC 20416, or send an email to brenda.fernandez@sba.gov. Highlight the information that you consider to be CBI and explain why you believe SBA should hold this information as confidential. SBA will review the information and make the final determination of whether it will publish the information.

FOR FURTHER INFORMATION CONTACT: Brenda Fernandez, U.S. Small Business Administration, Office of Policy, Planning and Liaison, 409 Third Street SW, Washington, DC 20416; (202) 205-7337; brenda.fernandez@sba.gov.

SUPPLEMENTARY INFORMATION: In the rule published on November 8, 2019 (84 FR 60846), SBA proposed revisions to its regulations to remove duplicative functions within SBA, reduce unnecessary or excessive burdens on 8(a) Participants, and clarify SBA's intent in other related regulatory provisions to eliminate confusion among small businesses and procuring activities. Specifically, the rule would merge the 8(a) Business Development (BD) Mentor-Protégé Program and the All Small Mentor-Protégé Program. This rule would also eliminate the requirement that 8(a) Participants seeking to be awarded an 8(a) contract as a joint venture submit the joint venture agreement to SBA for review and approval prior to contract award. In addition, except for orders and Blanket Purchase Agreements issued under the General Services Administration's Federal Supply Schedule Program, the rule would require a business concern to recertify its size and/or socioeconomic status for all set-aside orders under unrestricted multiple award contracts (MACs). The rule would also require a business concern to recertify its socioeconomic status for all set-aside orders where the required socioeconomic status for the order differs from that of the underlying set-aside MAC contract (e.g., HUBZone set-aside order against a small business set-aside MAC). Finally, except for orders or Blanket Purchase Agreements issued under any Federal Supply Schedule contract, the rule would permit size and/or socioeconomic protests at the order level for set-aside orders issued against unrestricted MACs, or for set-aside orders based on a different socioeconomic status from the underlying set-aside MAC.

Dated: January 3, 2020.
Barbara E. Carson,
Deputy Associate Administrator, Office of Government Contracting and Business Development.

[FR Doc. 2020-00169 Filed 1-9-20; 8:45 am]

BILLING CODE P